DEPARTMENT OF COMMERCE

National Oceanic and Atmospheric Administration

[Docket No. 100726313-0313-01]

RIN 0648-ZC19

Coral Reef Conservation Program Implementation Guidelines

AGENCY: National Oceanic and Atmospheric Administration (NOAA), Commerce.

ACTION: Final Implementation Guidelines for the Coral Reef Conservation Program.

SUMMARY: This document provides NOAA's revised Grant Program Implementation Guidelines (Guidelines) for the Coral Reef Conservation Program (CRCP or Program) under the Coral Reef Conservation Act of 2000 (Act). The Act authorizes the Secretary of Commerce (Secretary), through the NOAA Administrator (Administrator) and subject to the availability of funds, to provide matching grants of financial assistance for coral reef conservation projects under the Act. NOAA revised the Implementation Guidelines for the Grant Program, which were originally published in 2002, to be applicable to Fiscal Years (FY) 2011 through FY 2015 and published a draft of the revision in the Federal Register notice of January 19, 2010 (75 FR 3114-3120) for review and comment. NOAA proposes to utilize several existing grant programs and mechanisms to implement the Program. Specific information about each funding category, including available funding, dates, detailed application requirements and evaluation criteria, is published in separate Federal Register notices. In accordance with the Act, NOAA developed a National Coral Reef Action Strategy (Strategy) in 2002 to provide an implementation plan to advance coral reef conservation, including a basis for funding allocations to be made under the Program. In response to an external program review in 2007, a new program manager, development of a `Roadmap' for the future of the Program, and publication in 2009 of the CRCP Goals and Objectives 2010-2015 and CRCP International Strategy, the Program revised its Implementation Guidelines for the Grant Program to align more closely with the Program's new direction. The Department of Commerce Pre-Award Notification Requirements for Grants and Cooperative Agreements contained in the Federal Register notice of February 11, 2008 (73 FR 7696), are applicable to solicitations under this Program. This document is not a solicitation for project proposals.

DATES: Effective August 12, 2010.

FOR FURTHER INFORMATION CONTACT: Jenny Waddell, Grants and External Funding Coordinator, OCRM/Coral Conservation Division, NOAA National Ocean Service, 1305 East-West Highway, Silver Spring, MD 20910; 301-713-3155 extension 150, E-mail: Jenny.Waddell@noaa.gov; or Jennifer Koss, NMFS Habitat Conservation, NOAA National Marine Fisheries Service, 1315 East-West Highway, Silver Spring, MD 20910; 301-713-3459 extension 195, E-mail: Jennifer.Koss@noaa.gov.

SUPPLEMENTARY INFORMATION:

I. Background

A. Overview

The Coral Reef Conservation Act of 2000 (16 U.S.C. 6401 et seq.) was enacted on December 14, 2000, for the following purposes:

(1) To preserve, sustain and restore the condition of coral reef ecosystems;

(2) To promote the wise management and sustainable use of coral reef ecosystems to benefit local communities and the Nation;

(3) To develop sound scientific information on the condition of coral reef ecosystems and the threats to such ecosystems;

(4) To assist in the preservation of coral reefs by supporting conservation programs, including projects that involve affected local communities and non-governmental organizations;

(5) To provide financial resources for those programs and projects; and

(6) To establish a formal mechanism for the collecting and allocating of monetary donations from the private sector to be used for coral reef conservation projects. Under section 6403 of the Act, the Secretary, through the NOAA Administrator (Administrator) and subject to the availability of funds, is authorized to provide matching grants of financial assistance for coral reef conservation projects. Section 408(c) of the Act authorizes up to $8,000,000 annually for projects under the Program.

As required under section 6403(j) of the Act, NOAA developed Implementation Guidelines for the Grant Program in 2002 and revised and refined those Guidelines in 2009. The Guidelines published in this notice will update and replace the existing guidelines in order to shift focus toward implementation of the Program's 20-year Goals and Objectives and International Strategy in an effort to narrow and sharpen the focus of the Program.

Each fiscal year the Program will publish notices of funding availability in the Federal Register and make the associated Federal Funding Opportunity announcement available on Grants.gov, to describe the availability of funds under each grant category and solicit project proposals.

B. Comments and Responses, and Changes to the Proposed Guidelines

The following summarizes the comments submitted in response to the Draft Guidelines published in the Federal Register on January 19, 2010 (75 FR 3114-3120), and NOAA's responses.

Comment 1: A commenter representing a regional Fishery Management Council wanted to know how the legislative requirement that 40% of grant funding be provided to the Atlantic/Caribbean and 40% to the Pacific will affect each of the four funding categories individually. Response: The 40%-40% requirement in the Coral Reef Conservation Act of 2000 pertains to the Coral Reef Conservation Grants Program Overall and is not applied to any individual funding category. Selection of projects across the program will be based on the merit of the proposed activities, regardless of the funding category under which the proposal was submitted.

Comments from the four Fishery Management Councils eligible for funding under this program were also received in response to supplemental information provided to the councils about the funding category to which they will be eligible to apply. The comments received on both the Guidelines and the supplemental information were considered but did not result in alterations to the final Guidelines. Interested parties may obtain access to the supplemental information provided to the councils by contacting Jennifer.Koss@noaa.gov. Any comments received on the supplemental information will be considered during subsequent revisions, if any, to the Guidelines. In summary, the Guidelines were not changed from the Draft published in the Federal Register on January 19, 2010 based on comments received by the Program.

II. Electronic Access

The Coral Reef Conservation Act of 2000 can be found on the Internet at: http://thomas.loc.gov/ (Select Bill Text, then select 106th Congress, search on Bill Number HR 1653, select H.R. 1653.EH). Information on the U.S. Coral Reef Task Force, established June 11, 1998 under Executive Order 13089, can be found at: http://coralreef.gov. The National Coral Reef Action Strategy, which was published in 2002, is available at: http://coris.noaa.gov/activities/actionstrategy/. The CRCP Goals and Objectives 2010-2015, which were published in 2009, can be found at: http://coralreef.noaa.gov/aboutcrcp/strategy/currentgoals/resources/3threats_go.pdf and the CRCP International Strategy, also published in 2009, is available at: http://coralreef.noaa.gov/aboutcrcp/strategy/currentgoals/resources/intl_strategy.pdf Coral reef management priorities identified by State and Territorial partner agencies can be found in the Jurisdictional Coral Reef Management Priorities documents available at: http://coralreef.noaa.gov/aboutcrcp/strategy/reprioritization/managementpriorities.

III. Coral Reef Conservation Program

The objective of the Grant Program is to provide financial assistance for coral reef conservation programs and projects consistent with the Act, the National Coral Reef Action Strategy, the CRCP Goals and Objectives 2010-2015 and CRCP International Strategy, which were published in June 2009. NOAA's role in administering the Grant Program is to strengthen and support the development and implementation of sound coral reef conservation projects, as well as ensure that the most beneficial projects are recommended for funding.

IV. Applicant Eligibility Requirements

As per section 6403(c) of the Act, eligible applicants include: Any natural resource management authority of a state or other government authority with jurisdiction over coral reefs or whose activities directly or indirectly affect coral reefs or coral reef ecosystems, or educational or non-governmental institutions with demonstrated expertise in the conservation of coral reefs. Each category of funding under this Program, as described in Section VII of this document, encompasses a specific subgroup of eligible applicants.

As a matter of policy, funding of Federal agency activities under this Program will be a low priority unless such activities are an essential part of a cooperative project with other eligible governmental or non-governmental entities.

NOAA agencies are not eligible for funding under this Program, as funding for such activities is provided for under section 6406 of the Act (National Program).

V. Eligible Coral Reef Conservation Activities

As described in section 6403(g) of the Act, projects considered for funding under this Program must be consistent with the National Coral Reef Action Strategy. Concordance with the Program's 20-year Goals and Objectives and International Strategy guidance documents published in 2009 to narrow and sharpen the priorities included in the National Coral Reef Action Strategy will be an additional criterion in evaluating eligible projects and activities. In addition, coral reef management priorities identified in 2010 by states, territories and commonwealths containing coral reef ecosystems through a formal management priority setting process will be considered when evaluating and selecting proposals. Further, the Administrator may not approve a project proposal unless it will enhance the conservation of coral reefs by addressing at least one of the following:

(1) Implementing coral conservation programs which promote sustainable development and ensure effective, long-term conservation of coral reefs;

(2) Addressing the conflicts arising from the use of environments near coral reefs or from the use of corals, species associated with coral reefs, and coral products;

(3) Enhancing compliance with laws that prohibit or regulate the taking of coral products or species associated with coral reefs or regulate the use and management of coral reef ecosystems;

(4) Developing sound scientific information on the condition of coral reef ecosystems or the threats to such ecosystems, including factors that cause coral disease;

(5) Promoting and assisting to implement cooperative coral reef conservation projects that involve affected local communities, nongovernmental organizations, or others in the private sector;

(6) Increasing public knowledge and awareness of coral reef ecosystems and issues regarding their long term conservation;

(7) Mapping the location and distribution of coral reefs;

(8) Developing and implementing techniques to monitor and assess the status and condition of coral reefs;

(9) Developing and implementing cost-effective methods to restore degraded coral reef ecosystems; or

(10) Promoting ecologically sound navigation and anchorages near coral reefs.

VI. Program Funding and Distribution

Section 6408(c) of the Act authorizes $8,000,000 annually for financial assistance awards administered by the Coral Reef Conservation Grant Program. The number of individual awards to be made each year will depend on the total amount of funds appropriated for coral reef activities within NOAA and the portion of those funds that are allocated to the Grant Program. More information about each category of funding, including the anticipated amount of funding available, suggested ranges for funding requests, and specific funding categories under which an applicant may choose to apply, will be published in annual solicitations published in the Federal Register.

Program funding awarded during any given fiscal year will be distributed, per section 6403(d) of the Act, in the following manner:

(1) No less than 40 percent of funds available shall be awarded for coral reef conservation projects in the Pacific Ocean within the maritime areas and zones subject to the jurisdiction or control of the United States;

(2) No less than 40 percent of funds available shall be awarded for coral reef conservation projects in the Atlantic Ocean, Gulf of Mexico and the Caribbean Sea within the maritime areas and zones subject to the jurisdiction or control of the United States; and

(3) Remaining funds shall be awarded for projects that address emerging priorities or threats, including international priorities or threats, identified by the Administrator. When identifying emerging threats or priorities, the Administrator may consult with the U.S. Coral Reef Task Force.

The above allocation provision applies to the Grant Program as a whole and not necessarily to individual funding categories.

VII. Funding Categories and Mechanisms

In order to ensure adequate funding for each of the purposes envisioned under the Act and to provide for a balanced overall Program, existing NOAA programs will be used to award funds in the funding categories described below. Each of the categories described below references the general activity and applicant eligibility requirements associated with proposals submitted therein. Specific activity and applicant eligibility information and proposal evaluation criteria for each category will be published in annual solicitations for proposals, consistent with the Guidelines.

(1) CRCP State and Territorial Coral Reef Conservation Cooperative Agreements support U.S. state and territorial government coral reef conservation management and monitoring activities, as described in Section V (1-10) of this document (section 6403(g) of the Act) for the purposes of monitoring and comprehensively managing coral reef ecosystems and associated fisheries within their jurisdictions. Monitoring of coral reef ecosystems under this category includes the collection, analysis, and reporting of long-term coral reef monitoring data pursuant to scientifically valid methodologies and protocols. These awards are intended to fund activities that are consistent with the CRCP Goals and Objectives 2010-2015 (http://coralreef.noaa.gov/aboutcrcp/strategy/currentgoals/resources/3threats_go.pdf), the Jurisdictional Coral Reef Management Priorities documents (http://coralreef.noaa.gov/aboutcrcp/strategy/reprioritization/managementpriorities) or both. Eligibility to receive an award is limited to the agency that was designated by the respective governors as the official point of contact agency. These proposals will be reviewed and awarded by the National Ocean Service (NOS) Office of Ocean and Coastal Resource Management (OCRM) under CFDA 11.482.

(2) CRCP Domestic Coral Reef Conservation Grants provide funding to non-governmental entities not eligible under other categories, for the purpose of implementing cooperative coral reef conservation, protection, restoration, or education projects, as described in Section V (1-10) of this document (section 6403(g) of the Act) and consistent with the CRCP Goals and Objectives 2010-2015), the Jurisdictional Coral Reef Management Priorities documents or both. These proposals will be reviewed and awarded by the National Ocean Service (NOS) Office of Ocean and Coastal Resource Management (OCRM) under CFDA 11.482.

(3) CRCP Fishery Management Council Coral Reef Conservation Cooperative Agreements support projects to conserve, protect and restore coral reef habitats and associated fishery populations within the U.S. Exclusive Economic Zone, with the overall goal of improving the management of coral reefs and associated organisms through the avoidance of fishing impacts, application of ecosystem management or similar approaches and practices, as described in Section V (3) of this document (section 6403(g)(3) of the Act) and consistent with the CRCP Goals and Objectives 2010-2015. Eligible applicants include the four Regional Fishery Management Councils with jurisdiction over coral reefs, as established under the Magnuson-Stevens Fishery Conservation and Management Act (16 U.S.C. 1801 et seq.). These proposals will be reviewed and awarded by the NMFS Office of Habitat Conservation under CFDA 11.441.

(4) CRCP International Coral Reef Conservation Cooperative Agreements will be awarded for the purpose of implementing cooperative coral reef conservation activities as described in Section V (1-10) of this document (section 6403(g) of the Act) and consistent with priorities identified in the Program's International Strategy published in June 2009. Eligible applicants include international governmental and non-governmental entities, including those in the Freely Associated States of the Pacific. These proposals will be reviewed and awarded by the National Ocean Service (NOS) Office of Ocean and Coastal Resource Management (OCRM) under CFDA 11.482.

Annual solicitations published in the Federal Register will establish the annual priorities for that funding category, the range of funds available and the specific evaluation criteria for each funding category. NOAA may add additional funding categories in the annual solicitation based on available funding and/or the Program's coral reef conservation priorities. Selected applications may be funded and awards administered by NOAA, through either NMFS or NOS. Generally, one award will be made for each proposal accepted for funding. NOAA will determine the most appropriate funding mechanisms (grant, cooperative agreement, or interagency agreement) for selected individual projects, in consultation with the applicant, and based on the degree of direct NOAA involvement with the project beyond the provision of financial assistance. Substantial federal involvement in cooperative agreements may include participation of NOAA/CRCP staff in the planning, development and implementation of projects and/or provision of technical assistance, and will vary based on the category of funding, type of project, and type and experience of the award recipient. Proposals from non-Federal applicants that are selected for funding will be funded either through a project grant or cooperative agreement. Selected Federal proposals will be funded through interagency agreements; however, under the Program, such agreements must include a local sponsor of the coral reef conservation project.

VIII. Matching Funds

As per section 6403(b)(1) of the Act, Federal funds for any coral conservation project funded under this Program may not exceed 50 percent of the total costs of such project, and NOAA strongly encourages applicants to leverage as much investment as possible. Matching funds may comprise a variety of public and private sources and can include in-kind contributions and other non-cash support, but all matching funds must be from non-Federal sources. Federal funds may not be considered as matching funds. Details regarding the proposed match will be specified in the notice of funding availability.

For applicants who cannot meet the match requirement, as per section 6403(b)(2) of the Act, the Secretary may waive all or part of the matching requirement if the Administrator determines that the project meets the following two requirements:

(1) No reasonable means are available through which an applicant can meet the matching requirement, and

(2) The probable benefit of such project outweighs the public interest in such matching requirement.

Notwithstanding any other provision herein, and in accordance with 48 U.S.C. 1469a(d), this Program shall waive any requirement for local matching funds for any project under $200,000 (including in kind contributions) to the governments of Insular Areas, defined as the jurisdictions of the U.S. Virgin Islands, Guam, American Samoa, and the Commonwealth of the Northern Mariana Islands.

IX. Application Process

NOAA will publish in the Federal Register annual notifications soliciting project proposals under the categories described above and pursuant to these Guidelines. Applications submitted in response to solicitation notices will be screened for eligibility and conformance with the Guidelines.

To submit a proposal, a complete NOAA standard grants application package must contain the elements listed in section 6403(e) of the Act, which is provided below. Applicants are directed to the annual solicitation/FFO for filing instructions and the Department of Commerce Pre-Award Notification Requirements for Grants and Cooperative Agreements published in the Federal Register on February 11, 2008 (73 FR 7696) for award terms and conditions.

A more detailed description of specific application requirements will be published in the annual solicitation; however, pursuant to section 6403(e) of the Act, each application must include the following elements:

(1) A cover sheet with the name of the individual or entity responsible for conducting the project;

(2) A description of the qualifications of the individual(s) who will conduct the project;

(3) A succinct statement of the purpose(s) of the project, including the specific geographic location where the project will be carried out;

(4) An estimate of the funds and time required to complete the project including: a detailed breakdown by category of cost estimates as they relate to specific aspects of the project, with appropriate justification for both the Federal and non-Federal shares;

(5) Evidence of support for the project by appropriate representatives of states or other government jurisdictions in which the project will be conducted, including obtaining or proceeding to obtain all applicable State and/or Federal permits, consultations, and consistencies. U.S. state or territorial applicants must also provide evidence of coordination with all relevant state or territorial agencies, including a list of agencies consulted in developing the proposal;

(6) Information regarding the amount of matching funding available to the applicant. In the case of a waiver request, the applicant must provide a detailed justification explaining the need for the waiver including attempts to obtain sources of matching funds, how the benefit of the project outweighs the public interest in providing match, and any other extenuating circumstances preventing the availability of match;

(7) A description of how the project meets one or more of the goals and objectives stated in Section V of this document (section 6403(g) of the Act) and contributes to conservation needs identified in the CRCP Goals and Objectives 2010-2015 (http://coralreef.noaa.gov/aboutcrcp/strategy/currentgoals/resources/3threats_go.pdf), the Jurisdictional Coral Reef Management Priorities documents (http://coralreef.noaa.gov/aboutcrcp/strategy/reprioritization/managementpriorities) and/or the CRCP International Strategy (http://coralreef.noaa.gov/aboutcrcp/strategy/currentgoals/resources/intl_strategy.pdf) as appropriate; and

(8) Any other information the Administrator considers necessary for evaluating the eligibility of the project for funding under this title.

Applicants are requested to indicate under which category(s) (as described in Section VII of this document) they are seeking funds, and are encouraged to submit only one comprehensive application per solicitation.

X. Project Review

As per section 6403(f) of the Act, NOAA will review eligible coral reef conservation proposals using an external governmental review and merit-based peer review. After such reviews, NOAA will implement an internal ranking and selection process. The overall project review and selection process will include the following five steps:

(1) NOAA will request and consider written comments on the proposal from each Federal agency, state government, or other government jurisdiction, including the relevant regional Fishery Management Councils established under the Magnuson-Stevens Fishery Conservation and Management Act (16 U.S.C. 1801 et seq.), or any National Marine Sanctuary, with jurisdiction or management authority over coral reef ecosystems in the area where the project is to be conducted. Pursuant to this requirement of the Act, NOAA will apply the following standard in requesting comments: (A) Proposals for projects in state or territorial waters, including Federal marine protected areas in such waters (e.g. National Marine Sanctuaries), will be submitted to that state or territorial government's designated U.S. Coral Reef Task Force point of contact for comment; (B) proposals for projects in Federal waters will be submitted to the relevant Fishery Management Council for comment; (C) proposals for projects which require Federal permits will be submitted to the Federal agency which issued the permit for comment; (D) proposals for projects in Federal marine protected areas managed by Federal agencies (e.g. National Wildlife Refuges, National Parks, National Marine Sanctuaries, etc.) will be submitted to the respective Federal management authority for comment; and (E) NOAA will seek comments from other government entities, authorities, and/or jurisdictions, including international entities for projects proposed outside of U.S. waters, as necessary based on the nature and scope of the proposed project.

(2) Each NOAA program office will provide for a merit-based peer review and standardized documentation of that review for proposals considered appropriate for funding under their respective category(s). Each proposal will be reviewed by a minimum of three individuals with knowledge of the subject of the proposal. Each reviewer will submit a separate and individual review, and reviewers will not provide a consensus opinion. The identities of the peer reviewers will be kept anonymous to the degree permitted by law. Specific evaluation criteria for projects submitted under each funding category will be published in the category's respective annual Federal Register solicitation.

(3) Each NOAA Coral Reef Conservation Program Office will subsequently implement an internal review process to rank each proposal that is appropriate for funding under their program based upon consideration of: comments and recommendations from the reviews under paragraphs (1) and (2), and their evaluation of each proposal consistent with the five criteria identified within the notice of funding availability.

(4) A NOAA review panel made up of representatives from each relevant Program office will review the project rankings from each program office and make consensus-based, final project selections and funding recommendations to be presented to the NOAA Administrator, or his designee, for final approval. The review panel and Administrator, or designee, will ensure that the Act requirements for geographic funding distribution and consistency with the overall Program goals have been met. NOAA reserves the right to consult with applicants, prior to making an award, to determine the exact amount of funds to be awarded, as well as the most appropriate funding category and mechanism under which to consider the project for funding; and

(5) NOAA will provide written notification of a proposal's approval or disapproval to each applicant within 6 months of submitting a coral reef conservation proposal. Similarly, NOAA will also provide written notification of a project's approval to each State or other government jurisdiction that provided comments and/or reviews.

Definitions

In this Program:

(1) Administrator means the Administrator of the National Oceanic and Atmospheric Administration.

(2) Conservation means the use of methods and procedures necessary to preserve or sustain corals and associated species as diverse, viable, and self-perpetuating coral reef ecosystems, including all activities associated with resource management, such as assessment, conservation, protection, restoration, sustainable use, and management of habitat; mapping; habitat monitoring; assistance in the development of management strategies for marine protected areas and marine resources consistent with the National Marine Sanctuaries Act (16 U.S.C. 1431 et seq.) and the Magnuson-Stevens Fishery Conservation and Management Act (16 U.S.C. 1801 et seq.); law enforcement; conflict resolution initiatives; community outreach and education; and that promote safe and ecologically sound navigation.

(3) Cooperative Agreement means a legal instrument reflecting a relationship between the Department of Commerce (DoC) and a recipient whenever: (1) The principal purpose of the relationship is to transfer money, property, services or anything of value to accomplish a public purpose of support or stimulation authorized by Federal statute, and (2) substantial involvement (e.g. collaboration, participation, or intervention by DoC in the management of the project) is anticipated between DoC and the recipient during performance of the contemplated activity.

(4) Coral means species of the phylum Cnidaria, including—(A) all species of the orders Antipatharia (black corals), Scleractinia (stony corals), Gorgonacea (horny corals), Stolonifera (organpipe corals and others), Alcyanacea (soft corals), and Coenothecalia (blue coral), of the class Anthozoa; and (B) all species of the order Hydrocorallina (fire corals and hydrocorals) of the class Hydrozoa.

(5) Coral Reef means any reefs or shoals composed primarily of corals.

(6) Coral Reef Ecosystem means coral and other species of reef organisms (including reef plants) associated with coral reefs, and the non-living environmental factors that directly affect coral reefs, that together function as an ecological unit in nature.

(7) Coral Products means any living or dead specimens, parts, or derivatives, or any product containing specimens, parts, or derivatives, of any species referred to in paragraph (4).

(8) Grant means a legal instrument reflecting a relationship between DoC and a recipient whenever: (1) The principal purpose of the relationship is to transfer money, property, services, or anything of value in order to accomplish a public purpose of support or stimulation authorized by Federal statute, and (2) no substantial involvement is anticipated between DoC and the recipient during the performance of the contemplated activity.

(9) Interagency Agreement, for the purposes of these Guidelines, means a written document containing specific provisions of governing authorities, responsibilities, and funding, entered into between NOAA and another Federal agency where NOAA is funding the other Federal agency, pursuant to the Act.

(10) Secretary means the Secretary of Commerce.

(11) State means any State of the United States that contains a coral reef ecosystem within its seaward boundaries, American Samoa, Guam, the Northern Mariana Islands, Puerto Rico, and the Virgin Islands, and any other territory or possession of the United States, or separate sovereign in free association with the United States, that contains a coral reef ecosystem within its seaward boundaries.

Classification: This is a continuing Program and is currently included in the Catalog of Federal Domestic Assistance under the Coral Reef Conservation Program (11.482) and Regional Fishery Management Councils (11.441). The Program uses existing NOAA Federal assistance application package requirements per 15 CFR parts 14 and 24.

The program will determine NEPA compliance on a project by project basis.

This action has been determined to be not significant for purposes of Executive Order 12866.

The use of the standard grants application package referred to in this notice involves collection of information requirements subject to the Paperwork Reduction Act. The use of Standard Forms 424, 424A, 424B, and SF-LLL have been approved by OMB under the respective control numbers 0348-0043, 0348-0044, 0348-0040, and 0348-0046.

The collection of information related (1) requests for a waiver of matching funds and (2) comments related to project review as described in Section X of this document have been approved by the Office of Management and Budget (OMB), control number 0648-0448, under the Paperwork Reduction Act. The public reporting burden is estimated to average one hour per response for comments on a proposed project from each agency with jurisdiction over coral reef ecosystems in the area where the project is to be conducted and one hour per response for a request for a waiver of matching funds. This estimate includes the time for reviewing instructions, searching existing data sources, gathering and maintaining the data needed, and completing and reviewing the collection of information.

Send comments on these or any other aspects of the collection of information to NOAA Office of Ocean and Coastal Resource Management at the address listed in the FOR FURTHER INFORMATION CONTACT section of this notice, and to OMB at the Office of Information and Regulatory Affairs, Office of Management and Budget, Washington, DC 20503 (Attention: NOAA Desk Officer).

Notwithstanding any other provision of law, no person is required to respond to, nor shall any person be subject to a penalty for failure to comply with, a collection of information subject to the Paperwork Reduction Act, unless that collection displays a currently valid OMB control number.

Dated: August 6, 2010.
Donna Rivelli,
Deputy Associate Assistant Administrator for Management and CFO/CAO, Ocean Services and Coastal Zone Management.

[FR Doc. 2010-19889 Filed 8-11-10; 8:45 am]

BILLING CODE 3510-08-P